DEPARTMENT OF TRANSPORTATION

Federal Transit Administration

Limitation on Claims Against Proposed Public Transportation Projects—Southwest Corridor Light Rail Project, RapidRide Roosevelt (RapidRide J Line) Project, and Northern Bus Garage Renovation Project

AGENCY: Federal Transit Administration (FTA), Department of Transportation (DOT).

ACTION: Notice.

SUMMARY: This notice announces final environmental actions taken by the Federal Transit Administration (FTA) regarding three projects: Southwest Corridor Light Rail Project, Portland, Tigard, and Tualatin County, Oregon; RapidRide Roosevelt (RapidRide J Line) Project, Seattle, Washington; and Northern Bus Garage Renovation Project, Washington, DC. The purpose of this notice is to announce publicly the environmental decisions by FTA on the subject projects and to activate the limitation on any claims that may challenge these final environmental actions.

DATES: A claim seeking judicial review of FTA actions announced herein for the listed public transportation projects will be barred unless the claim is filed on or before October 14, 2022.

FOR FURTHER INFORMATION CONTACT: Kathryn Loster, Assistant Chief Counsel, Office of Chief Counsel, (312) 353-3869, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project files for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA (42 U.S.C. 4321-4375), Section 4(f) requirements (23 U.S.C. 138, 49 U.S.C. 303), Section 106 of the National Historic Preservation Act (54 U.S.C. 306108), Section 6(f) of the Land and Water Conservation Fund Act of 1965 (54 U.S.C. 200305), Endangered Species Act (16 U.S.C. 1531), Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The projects and actions that are the subject of this notice follow:

1. Project name and location: Southwest Corridor Light Rail Project, Portland, Tigard, and Tualatin, Oregon. Project Sponsor: Metro and Tri-County Metropolitan Transportation District of Oregon (TriMet), Portland, Oregon. Project description: The Project extends the existing MAX light rail transit network with a new 11-mile light rail service serving southwest Portland, Tigard, and Tualatin, Oregon. The new light rail alignment will generally be either center-running within existing or new streets, or adjacent to roadways or railroads. The project includes construction of 13 new stations, as well as up to 2,020 park and ride spaces at 5 new or modified park and ride facilities. Additionally, the project work involves new or rebuilt roadways and bridges, as well as streetscape elements such as sidewalks, bicycle facilities, landscape buffers, and lighting. Final agency action: Section 106 Memorandum of Agreement, dated December 15, 2021; Section 4(f) determination dated April 8, 2022; Southwest Corridor Light Rail Project Record of Decision (ROD), dated April 08, 2022. Supporting documentation: Southwest Corridor Light Rail Project Final Environmental Impact Statement (FEIS), dated January 13, 2022. Southwest Corridor Light Rail Project Draft Environmental Impact Statement (DEIS), dated May 25, 2018. The ROD, FEIS, DEIS and associated documents can be viewed and downloaded from: https://www.oregonmetro.gov/southwest-corridor-plan.

2. Project name and location: RapidRide Roosevelt (RapidRide J Line) Project, Seattle, Washington. Project Sponsor: Seattle Department of Transportation (SDOT) and King County Metro (Metro), Seattle, Washington. Project description: The Project involves implementing a bus rapid transit service with 2.3 miles of new transit lane improvements that serves the neighborhoods from Downtown Seattle to the Roosevelt neighborhood in Seattle, Washington. The project work includes construction of up to 26 new RapidRide stations, bicycle lanes, signal infrastructure, sidewalk upgrades, signage, and roadway channelization. Final agency action: Section 106 No Adverse Effect determination, dated April 16, 2021; Section 4(f) de minimis impact determination, dated May 14, 2020; RapidRide Roosevelt Project Finding of No Significant Impact (FONSI), dated April 26, 2022. Supporting documentation: RapidRide Roosevelt Project Supplemental Environmental Assessment (EA), dated October 13, 2021. RapidRide Roosevelt Project EA, dated January 3, 2020. The FONSI, Supplemental EA, EA and associated documents can be viewed and downloaded from: https://www.seattle.gov/transportation/projects-and-programs/programs/transit-program/transit-plus-multimodal-corridor-program/rapidride-roosevelt.

3. Project name and location: Northern Bus Garage Renovation Project, Washington, DC. Project Sponsor: Washington Metropolitan Area Transit Authority (WMATA), Washington, DC. Project description: The Project involves the replacement and renovation of the existing bus garage, which has met its useful life. The structural improvements are needed in order to maintain efficient storage and maintenance, replace deteriorating concrete conditions, better accommodate articulated buses, and reduce deadheading. The project will be constructed within the existing current facility footprint located on an approximately 5.25-acre site at 4615 14th Street, NW, Washington, DC. Final agency actions: Section 4(f) individual use determination, dated April 20, 2022; Section 106 Memorandum of Agreement, dated December 20, 2021; and Determination of the applicability of a categorical exclusion pursuant to 23 CFR 771.118(d), dated April 20, 2022. Supporting documentation: Documented Categorical Exclusion (CE) checklist and supporting materials, dated April 01, 2022. The CE checklist and associated documents can be viewed and downloaded from: https://wmata.com/initiatives/plans/northern-bus-garage/building-new.cfm.

Authority: 23 U.S.C. 139(l)(1).

Mark A. Ferroni,
Deputy Associate Administrator for Planning and Environment.

[FR Doc. 2022-10553 Filed 5-16-22; 8:45 am]

BILLING CODE 4910-57-P